DEPARTMENT OF DEFENSE

Office of the Secretary

Reestablishment of Department of Defense Federal Advisory Committees

AGENCY: DoD.

ACTION: Reestablishment of Federal Advisory Committee.

SUMMARY: The Department of Defense is publishing this notice to announce that it is reestablishing the Defense Business Board (“the Board”).

FOR FURTHER INFORMATION CONTACT: Jim Freeman, Advisory Committee Management Officer for the Department of Defense, 703-692-5952.

SUPPLEMENTARY INFORMATION: The Board's charter is being reestablished under the provisions of the Federal Advisory Committee Act of 1972 (5 U.S.C. Appendix, as amended), the Government in the Sunshine Act of 1976 (5 U.S.C. 552b) (“the Sunshine Act”), and 41 CFR 102-3.50(d).

The Board is a discretionary advisory committee that examines and provides advice to the Secretary of Defense and the Deputy Secretary of Defense on overall DoD management and governance from a private sector perspective.

The Department of Defense (DoD), through the Director of Administration and Management, provides support as deemed necessary for the Board's performance, and ensures compliance with the requirements of the FACA, the Sunshine Act, governing Federal statutes and regulations, and governing DoD policies and procedures.

The Board is comprised of no more than 25 members who possess the following: (a) A proven track record of sound judgment in leading or governing large, complex private sector corporations or organizations; and (b) a wealth of top-level, global business experience in the areas of executive management, corporate governance, audit and finance, human resources, economics, technology, or healthcare. Board members are appointed by the Secretary of Defense with annual renewals.

Board members appointed by the Secretary of Defense, who are not full-time or permanent part-time federal employees, are appointed as experts and consultants under the authority of 5 U.S.C. 3109 to serve as special government employee (SGE) members. Board members appointed by the Secretary of Defense, who are full-time or permanent part-time Federal employees, are appointed pursuant to 41 CFR 102-3.130(a) to serve as regular government employee (RGE) members. Board members serve a term of service of one-to-four years, as determined by the Secretary of Defense. According to Secretary of Defense policy, no member serves more than two consecutive terms of service unless otherwise authorized by the Secretary of Defense or the Deputy Secretary of Defense, and this limitation also applies to any subcommittee of the Board. With the exception of reimbursement for official board-related travel and per diem, members of the Board serve without compensation.

DoD, when necessary and consistent with the Board's mission and DoD policies and procedures, may establish subcommittees, task forces, or working groups to support the Board. Establishment of subcommittees is based upon a written determination, to include terms of reference, by the Secretary of Defense or the Deputy Secretary of Defense.

Such subcommittees will not work independently of the Board and must report all of findings and recommendations to the Board for full and open deliberation and discussion under the open-meeting rules of FACA. Subcommittees, task forces, or working groups have no authority to make decisions and recommendations, verbally or in writing, on behalf of the Board. No subcommittee or any of its members can update or report, verbally or in writing, on behalf of the Board, directly to the DoD or any Federal officer or employee.

Subcommittee members are appointed by the Secretary of Defense or the Deputy Secretary for terms of service of one-to-four years, even if the member in question is already a member of the Board. Subcommittee members are appointed in the same manner as members of the Board to include the same appointment authorities and annual renewals. Like members of the Board, subcommittee members serve without compensation except for official travel and per diem related to the Board or the subcommittee.

All subcommittees operate under the provisions of FACA, the Sunshine Act, governing Federal statutes and regulations, and established DoD policies and procedures.

The Board's Designated Federal Officer (DFO) must be a full-time or permanent part-time DoD employee and must be appointed according to established DoD policies and procedures.

The Board's DFO is required to be in attendance at all meetings of the Board and any subcommittees for the entire duration of each and every meeting; however, in the absence of the DFO, a properly approved Alternate DFO shall attend the entire duration of all of the meetings of the Board and its subcommittees.

The DFO, or the Alternate DFO, shall call all meetings of the Board and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to members of the Board. Written statements may be submitted at any time or in response to the stated agenda of planned meeting of the Board.

All written statements shall be submitted to the DFO, and this individual will ensure that the written statements are provided to the membership for their consideration. Contact information for the Board's DFO is available at the GSA's FACA Database— http://www.facadatabase.gov/. The DFO, pursuant to 41 CFR 102-3.150, will announce planned meetings of the Board, and the DFO, at that time, may provide additional guidance on the submission of written statements that are in response to the stated agenda for the planned meeting in question.

Dated: June 13, 2014.
Aaron Siegel,
Alternate OSD Federal Register Liaison Officer, Department of Defense.

[FR Doc. 2014-14289 Filed 6-18-14; 8:45 am]

BILLING CODE 5001-06-P